DEPARTMENT OF ENERGY

Federal Energy Regulatory Commission

[Docket No. CP21-113-000]

Alliance Pipeline, L.P.; Notice of Waiver Period for Water Quality Certification Application

On August 27, 2021, Alliance Pipeline, L.P. (Alliance) submitted to the Federal Energy Regulatory Commission (Commission) a copy of its application for a Clean Water Act section 401(a)(1) water quality certification filed with Illinois Environmental Protection Agency (IEPA), in conjunction with the above captioned project. Pursuant to 40 CFR 121.6, we hereby notify the IEPA of the following:

Date of Receipt of the Certification Request: August 26, 2021.

Reasonable Period of Time to Act on the Certification Request: One year.

Date Waiver Occurs for Failure to Act: August 26, 2022.

If IEPA fails or refuses to act on the water quality certification request by the above waiver date, then the agency certifying authority is deemed waived pursuant to section 401(a)(1) of the Clean Water Act, 33 U.S.C. 1341(a)(1).

Dated: October 20, 2021.
Kimberly D. Bose,
Secretary.

[FR Doc. 2021-23661 Filed 10-29-21; 8:45 am]

BILLING CODE 6717-01-P